DEPARTMENT OF DEFENSE

Office of the Secretary

[Transmittal No. 17-14]

36(b)(1) Arms Sales Notification

AGENCY: Defense Security Cooperation Agency, Department of Defense.

ACTION: Notice.

SUMMARY: The Department of Defense is publishing the unclassified text of a section 36(b)(1) arms sales notification.

FOR FURTHER INFORMATION CONTACT: Kathy Valadez, (703) 697-9217 or Pamela Young, (703) 697-9107; DSCA/DSA-RAN.

SUPPLEMENTARY INFORMATION: This 36(b)(1) arms sales notification is published to fulfill the requirements of section 155 of Public Law 104-164 dated July 21, 1996. The following is a copy of a letter to the Speaker of the House of Representatives, Transmittal 17-14 with attached Policy Justification and Sensitivity of Technology.

Dated: May 9, 2017.
Aaron Siegel,
Alternate OSD Federal Register Liaison Officer, Department of Defense.

Transmittal No. 17-14

Notice of Proposed Issuance of Letter of Offer Pursuant to Section 36(b)(1) of the Arms Export Control Act, as amended

(i) Prospective Purchaser: Government of Slovakia

(ii) Total Estimated Value:

Major Defense Equipment * | $ 0 million
Other | $150 million
Total | $150 million

(iii) Description and Quantity or Quantities of Articles or Services under Consideration for Purchase:

Major Defense Equipment (MDE): None

Non-MDE: Nine (9) Bell 429 Light Utility Helicopters with customer-unique modifications. Also included are WESCAM MX-10 cameras, training, spare parts, and logistical support, mission equipment, communication and navigation equipment, special tools and test equipment, ground support equipment, airframe and engine spare parts, technical data, publications, maintenance work order/electronic change proposals, technical assistance, repair and return, quality assurance team, and transportation of aircraft.

(iv) Military Department: Army

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: April 27, 2017

* as defined in Section 47(6) of the Arms Export Control Act.

POLICY JUSTIFICATION

Government of Slovakia—Bell 429 Light Utility Helicopters

Slovakia has requested a possible sale of nine (9) Bell 429 Light Utility Helicopters with customer-unique modifications. Also included are WESCAM MX-10 cameras, training, spare parts, and logistical support, mission equipment, communication and navigation equipment, special tools and test equipment, ground support equipment, airframe and engine spare parts, technical data, publications, maintenance work order/electronic change proposals, technical assistance, repair and return, quality assurance team, and transportation of aircraft. The estimated cost is $150 million.

This proposed sale will enhance the foreign policy and national security objectives of the United States by helping to improve the security of a NATO ally that has been, and continues to be an important force for political stability and economic progress within Europe.

The proposed sale of the Bell 429 light utility helicopters will improve Slovakia's capability to meet current and future threats. Slovakia will use the enhanced capability to strengthen its homeland defense and deter regional threats. Slovakia will have no difficulty absorbing these helicopters into its armed forces.

The proposed sale will not alter the basic military balance in the region.

The principal contractor will be Bell Helicopter of Piney Flats, Tennessee. There are no known offset agreements in connection with this potential sale.

Implementation of this proposed sale will not require the assignment of any additional U.S. Government or contractor representatives to Slovakia.

There will be no adverse impact on U.S. defense readiness as a result of this proposed sale.

Transmittal No. 17-14

Notice of Proposed Issuance of Letter of Offer Pursuant to Section 36(b)(1) of the Arms Export Control Act, as amended

Annex Item No. vii

(vii) Sensitivity of Technology:

1. The Bell 429 is a light twin, newly manufactured helicopter and is optimized for Instrument Flight Rules (IFR), Category A, and JAROPS-3 compliant operations. The Bell 429 features two/three multi-function displays, dual digital 3-axis autopilot and an integrated electronic data recorder provides enhanced situational awareness and post flight analysis. The Bell 429 standard configuration for Communications, Navigation and Surveillance (CNS) consists of Garmin GTN 650/750 NAV/COM/WAAS GPS system. The Identifier, Friend or Foe (IFF) will be the APX-123, which provides the Mode 4/5 capability. One (1) each Multi Sensor Cameras, L3 WESCAM MX10s will be equipped on four (4) of the nine (9) Bell 429 Helicopters. The communications suite is as follows: one (1) each AN/ARC-231 Multi-mode radios providing VHF FM, VHF-AM, UHF, HQII and DAMA SATCOM. Aircraft survivability equipment (ASE) will not be provided on this LOA.

Identification and security classification of sensitive technological information and/or restricted information contained in the equipment, major components, subsystems, software, technical data (Performance, Maintenance, R&M, etc.) documentation, training devices and services to be conveyed with the proposed sale to include a brief justification/explanation of why information is sensitive provided as follows:

(1) The AN/APX-123A, Identification Friend of Foe (IFF) Transponder, is a space diversity transponder and is installed on various military platforms. When installed in conjunction with platform antennas and the RCU (or other appropriate control unit), the transponder provides identification, altitude and surveillance reporting in response to interrogations from airborne, ground-based and/or surface interrogators. The transponder provides operational capabilities for Mark XIIA Identification Friend of Foe (IFF) capabilities of Modes 1, 2, 3/A,C and 4&5 and Mode S (levels 1, 2, and 3 capable). Additionally, the AN/APX-123 also provides automated ID, position and latitude of the aircraft, and unencrypted ADS-B and is compatible with the Traffic Alert and Collision Avoidance System (TCAS) II equipment.

(2) The WESCAM MX-10 is a small Multi-Sensor, Multi-Spectral Imaging System with Inertial Measurement Unit (IMU) and Embedded with Global Positioning Systems (GPS) Standard Positioning Service (SPS). The WESCAM MX-10 camera system contains a LN-200 IMU manufactured by Northrop Grumman in the United States. WESCAM MX-10 is embedded with GPS SPS. SPS is a three-dimensional position and time determination capability provided to a user equipped with a minimum capability GPS SPS receiver in accordance with GPS national policy.

(3) The AN/ARC-231 (V)(C) is a secure communication system that provides Line-of-Sight (LOS) communications and Beyond Line-of-Sight (BLOS) satellite communications (SATCOM), as well as Voice and data communications capabilities. In addition to Satellite Communications, the AN/ARC-231 (V)(C) provides Secure/Electronic Counter-Countermeasures (ECCM) communications in the following waveform, The Single Channel Ground and Airborne System (SINCGARS) and the HAVE QUICK (HQ). The AN/ARC-231 functions by transmitting and receiving the Radio Frequency (RF) in the 30 MHz-511.995 MHZ range. The Receiver Transmitter provides communication in Frequency Modulation (FM), Very High Frequency—Amplitude Modulation Air Traffic Control Band (VHF AM ATC), Very High Frequency—Frequency Modulation Public Service & Maritime Band, Ultra High Frequency—Amplitude Modulation (UHF AM) HAVEQUICK/Ground-Air Band, Ultra high Frequency Satellite (UHF SATFCOM) Band and Ultra High Frequency—Frequency Modulation Public Service Band.

2. A determination has been made that the recipient country can provide the same degree of protection for the sensitive technology being released as the U.S. Government.

3. This sale is necessary in furtherance of the U.S. foreign policy and national security objectives outlined in the Policy Justification. Moreover, the benefits to be derived from this sale, as outlined in the Policy Justification, outweighs the potential damage that could result if the sensitive technology were revealed to unauthorized persons.

4. All defense articles and services listed in this transmittal have been authorized for release and export to the Slovak Republic.

[FR Doc. 2017-09646 Filed 5-25-17; 8:45 am]

BILLING CODE 5001-06-P